DEPARTMENT OF TRANSPORTATION

Federal Aviation Administration

14 CFR Part 71

[Docket No. FAA-2019-0109; Airspace Docket No. 19-ASO-2]

RIN 2120-AA66

Proposed Amendment of the Class D and Class E Airspace, Establishment of Class E Airspace, and Revocation of Class E Airspace; Louisville, KY

AGENCY: Federal Aviation Administration (FAA), DOT.

ACTION: Notice of proposed rulemaking (NPRM).

SUMMARY: This action proposes to amend the Class D airspace and Class E surface airspace at Bowman Field, Louisville, KY; establish Class E surface airspace designated as an extension to a Class C surface area at Louisville Muhammad Ali International Airport, Louisville, KY; revoke the Class E airspace designated as an extension to a Class D or Class E surface area at Bowman Field Airport; and amend Class E airspace extending upward from 700 feet above the surface at Louisville Muhammad Ali International Airport and Bowman Field Airport. The FAA is proposing this action as the result of the decommissioning of the Bowman VHF omnidirectional range (VOR) navigation aid, which provided navigation information for the instrument procedures at these airports, as part of the VOR Minimum Operational Network (MON) Program. The name of the Louisville Muhammad Ali International Airport would also be updated to coincide with the FAA's aeronautical database.

DATES: Comments must be received on or before September 5, 2019.

ADDRESSES: Send comments on this proposal to the U.S. Department of Transportation, Docket Operations, West Building Ground Floor, Room W12-140, 1200 New Jersey Avenue SE, Washington, DC 20590; telephone (202) 366-9826, or (800) 647-5527. You must identify FAA Docket No. FAA-2019-0109; Airspace Docket No. 19-ASO-2, at the beginning of your comments. You may also submit comments through the internet at http://www.regulations.gov. You may review the public docket containing the proposal, any comments received, and any final disposition in person in the Dockets Office between 9:00 a.m. and 5:00 p.m., Monday through Friday, except federal holidays.

FAA Order 7400.11C, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11C at NARA, call (202) 741-6030, or go to http://www.archives.gov/federal-register/cfr/ibr-locations.html.

FAA Order 7400.11, Airspace Designations and Reporting Points, is published yearly and effective on September 15.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it would amend the Class D airspace and Class E surface airspace at Bowman Field, Louisville, KY; establish Class E surface airspace designated as an extension to a Class C surface area at Louisville Muhammad Ali International Airport, Louisville, KY; revoke the Class E airspace designated as an extension to a Class D or Class E surface area at Bowman Field Airport; and amend Class E airspace extending upward from 700 feet above the surface at Louisville Muhammad Ali International Airport and Bowman Field Airport to support instrument flight rule operations at these airports.

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal. Communications should identify both docket numbers and be submitted in triplicate to the address listed above. Commenters wishing the FAA to acknowledge receipt of their comments on this notice must submit with those comments a self-addressed, stamped postcard on which the following statement is made: “Comments to Docket No. FAA-2019-0109/Airspace Docket No. 19-ASO-2.” The postcard will be date/time stamped and returned to the commenter.

All communications received before the specified closing date for comments will be considered before taking action on the proposed rule. The proposal contained in this notice may be changed in light of the comments received. A report summarizing each substantive public contact with FAA personnel concerned with this rulemaking will be filed in the docket.

Availability of NPRMs

An electronic copy of this document may be downloaded through the internet at http://www.regulations.gov. Recently published rulemaking documents can also be accessed through the FAA's web page at http://www.faa.gov/air_traffic/publications/airspace_amendments/.

You may review the public docket containing the proposal, any comments received, and any final disposition in person in the Dockets Office (see the ADDRESSES section for the address and phone number) between 9:00 a.m. and 5:00 p.m., Monday through Friday, except federal holidays. An informal docket may also be examined during normal business hours at the Federal Aviation Administration, Air Traffic Organization, Central Service Center, Operations Support Group, 10101 Hillwood Parkway, Fort Worth, TX 76177.

Availability and Summary of Documents for Incorporation by Reference

This document proposes to amend FAA Order 7400.11C, Airspace Designations and Reporting Points, dated August 13, 2018, and effective September 15, 2018. FAA Order 7400.11C is publicly available as listed in the ADDRESSES section of this document. FAA Order 7400.11C lists Class A, B, C, D, and E airspace areas, air traffic service routes, and reporting points.

The Proposal

The FAA is proposing an amendment to Title 14 Code of Federal Regulations (14 CFR) part 71 by:

Amending the Class D airspace to within a 4-mile radius (previously a 3.9-mile radius) of Bowman Field Airport, Louisville, KY; and updating the name of the Louisville Muhammad Ali International Airport (previously Louisville International Airport), Louisville, KY, to coincide with the FAA's aeronautical database;

Amending the Class E surface airspace to within a 4-mile radius (previously a 3.9-mile radius) of Bowman Field Airport to 2,200 feet MSL; adding an exclusion area above 2,200 MSL; and updating the name of the Louisville Muhammad Ali International Airport (previously Louisville International Airport) to coincide with the FAA's aeronautical database;

Establishing Class E surface airspace designated as an extension to a Class C surface area at Louisville Muhammad Ali International Airport extending within 1 mile each side of the 165° bearing of the Louisville Muhammad Ali International: RWY 35R-LOC extending from the 5-mile radius of Louisville Muhammad Ali International Airport to 5.5 miles south of the Louisville Muhammad Ali International: RWY 35R-LOC; and within 1 mile each side of the 165° bearing of the Louisville Muhammad Ali International: RWY 35L-LOC extending from the 5-mile radius of Louisville Muhammad Ali International Airport to 5.5 miles south of the Louisville Muhammad Ali International: RWY 35L-LOC; and within 1 mile each side of the 165° bearing of the Louisville Muhammad Ali International Airport extending from the 5-mile radius of Louisville Muhammad Ali International Airport to 5.5 miles south of the Louisville Muhammad Ali International Airport;

Removing the Class E airspace designated as an extension to Class D and Class E surface area at Bowman Field Airport, as it is no longer required;

And amending the Class E airspace extending upward from 700 feet above the surface to within a 7.5-mile radius (decreased from a 10-mile radius) of Louisville Muhammad Ali International Airport; and within a 6.5-mile radius (reduced from a 10-mile radius) of Bowman Field Airport; and would update the name of Louisville Muhammad Ali International Airport to coincide with the FAA's aeronautical database.

This action is the result of an airspace review caused by the decommissioning of the Bowman VOR, which provided navigation information for the instrument procedures at these airports, as part of the VOR MON Program.

Class D and E airspace designations are published in paragraph 5000, 6002, 6003, 6004, and 6005, respectively, of FAA Order 7400.11C, dated August 13, 2018, and effective September 15, 2018, which is incorporated by reference in 14 CFR 71.1. The Class D and E airspace designations listed in this document will be published subsequently in the Order.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

Accordingly, pursuant to the authority delegated to me, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11C, Airspace Designations and Reporting Points, dated August 13, 2018, and effective September 15, 2018, is amended as follows:

Paragraph 5000 Class D Airspace.

* * * * *

ASO KY D Louisville, KY [Amended]

Bowman Field Airport, KY

(Lat. 38°13′41″ N, long. 85°39′49″ W)

Louisville Muhammad Ali International Airport, KY

(Lat. 38°10′27″ N, long. 85°44′11″ W)

That airspace extending upward from the surface to but not including 2,200 feet MSL within a 4-mile radius of Bowman Field Airport, excluding that portion within the Louisville Muhammad Ali International Airport Class C airspace area, and excluding that portion south of the 081° bearing from Louisville Muhammad Ali International Airport, and also excluding that portion north of the Louisville Muhammad Ali International Airport Class C airspace area and west of a line drawn from lat. 38°11′28″ N, long. 85°42′01″ W direct thru the point where the 030° bearing from Louisville Muhammad Ali International Airport intersects the 5-mile radius from Louisville Muhammad Ali International Airport to the point of intersection with the 4-mile radius from Bowman Field Airport. This Class D airspace area is effective during the specific dates and times established in advance by a Notice to Airmen. The effective date and time will thereafter be continuously published in the Chart Supplement.

Paragraph 6002 Class E Airspace Areas Designated as a Surface Area.

* * * * *

ASO KY E2 Louisville, KY [Amended]

Bowman Field Airport, KY

(Lat. 38°13′41″ N, long. 85°39′49″ W)

Louisville Muhammad Ali International Airport, KY

(Lat. 38°10′27″ N, long. 85°44′11″ W)

That airspace extending upward from the surface to but not including 2,200 feet MSL within a 4-mile radius of Bowman Field Airport, excluding that portion within the Louisville Muhammad Ali International Airport Class C airspace area, and excluding that portion south of the 081° bearing from Louisville Muhammad Ali International Airport, and also excluding that portion north of the Louisville Muhammad Ali International Airport Class C airspace area and west of a line drawn from lat. 38°11′28″ N, long. 85°42′01″ W direct thru the point where the 030° bearing from Louisville Muhammad Ali International Airport intersects the 5-mile radius from Louisville Muhammad Ali International Airport to the point of intersection with the 4-mile radius from Bowman Field Airport. This Class E airspace area is effective during the specific dates and times established in advance by a Notice to Airmen. The effective date and time will thereafter be continuously published in the Chart Supplement.

Paragraph 6003 Class E Airspace Areas Designated as an Extension to a Class C Surface Area.

* * * * *

ASO KY E3 Louisville, KY [Established]

Louisville Muhammad Ali International Airport, KY

(Lat. 38°10′27″ N, long. 85°44′11″ W)

Louisville Muhammad Ali International: RWY 35R-LOC

(Lat. 38°11′21″ N, long. 85°43′55″ W)

Louisville Muhammad Ali International: RWY 35L-LOC

(Lat. 38°11′17″ N, long. 85°44′57″ W)

That airspace extending upward from the surface within 1 mile each side of the 165° bearing from the Louisville Muhammad Ali International: RWY 35R-LOC extending from the 5-mile radius of the Louisville Muhammad Ali International Airport to 5.5 miles south of the Louisville Muhammad Ali International: RWY 35R-LOC, and within 1 mile each side of the 165° bearing from the Louisville Muhammad Ali International: RWY 35L-LOC extending from the 5-mile radius of the Louisville Muhammad Ali International Airport to 5.5 miles south of the Louisville Muhammad Ali International: RWY 35L-LOC, and within 1 mile each side of the 165° bearing from the Louisville Muhammad Ali International Airport extending from the 5-mile radius of the Louisville Muhammad Ali International Airport to 5.5 miles south of the Louisville Muhammad Ali International Airport.

Paragraph 6004 Class E Airspace Areas Designated as an Extension to a Class D or Class E Surface Area.

* * * * *

ASO KY E4 Louisville Bowman Field, KY [Removed]

Paragraph 6005 Class E Airspace Areas Extending Upward From 700 Feet or More Above the Surface of the Earth.

* * * * *

ASO KY E5 Louisville, KY [Amended]

Louisville Muhammad Ali International Airport, KY

(Lat. 38°10′27″N, long. 85°44′11″W)

Bowman Field Airport, KY

(Lat. 38°13′41″ N, long. 85°39′49″ W)

That airspace extending upward from 700 feet above the surface within a 7.5-mile radius of Louisville Muhammad Ali International Airport, and within 2.4 miles each side of the ILS localizer east course, extending from the 10-mile radius to 7 miles east of the LOM, and within a 6.5-mile radius of Bowman Field Airport.

Issued in Fort Worth, Texas, on July 15, 2019.
John Witucki,
Acting Manager, Operations Support Group, ATO Central Service Center.

[FR Doc. 2019-15445 Filed 7-19-19; 8:45 am]

BILLING CODE 4910-13-P